DEPARTMENT OF TRANSPORTATION

Federal Aviation Administration

14 CFR Part 71

[Docket No. FAA-2003-15789; Airspace Docket No. 03-AEA-09]

Amendment of Class E Airspace; Charlottesville, VA; Correction

AGENCY: Federal Aviation Administration (FAA), DOT.

ACTION:

Final Rule; correction.

SUMMARY: An amendment to Airspace Docket No. 03-AEA-09, published in the Federal Register on November 6, 2003 (68 FR 62735), corrected the description of the Class E airspace area at Charlottesville, VA. The published effective date was in error. This action corrects this error.

EFFECTIVE DATE: 0901 UTC, February 19, 2004.

FOR FURTHER INFORMATION CONTACT: Mr. Francis Jordan, Airspace Specialist, Airspace Branch, AEA-520, Air Traffic Division, Eastern Region, Federal Aviation Administration, 1 Aviation Plaza, Jamaica, New York 11434-4809, telephone: (718) 553-4521.

SUPPLEMENTARY INFORMATION: Airspace Docket No. 03-AEA-09, published in the Federal Register on November 6, 2003 (68 FR 62735), corrected the description of the Class E airspace area at Charlottesville, VA. The final rule amended the description of the Class E airspace for Charlottesville, VA to include Charlottesville-Albermarle Airport as the primary airport. The effective date was published as November 6, 2003. The effective date must be established to coincide with the earliest available charting date. This action corrects the effective date to February 19, 2004.

In rule FR Doc. 03-27899, published November 6, 2003, (68 FR 62735), make the following correction. On page 62735, in the first column, change the effective date to read “February 19, 2004”.

Issued in Jamaica, New York, on December 8, 2003.
John G. McCartney,
Assistant Manager, Air Traffic Division, Eastern Region.

[FR Doc. 03-31027 Filed 12-16-03; 8:45 am]

BILLING CODE 4910-13-M